DEPARTMENT OF ENERGY

Federal Energy Regulatory Commission

[Docket No. CP01-403-000]

Northern Natural Gas Company; Notice of Application

July 20, 2001.

Take notice that on July 16, 2001, Northern Natural Gas Company (Northern), 1111 S. 103rd Street, Omaha, Nebraska 68124, filed in Docket No. CP01-403-000, an application, pursuant to Section 7(c) of the Natural Gas Act (NGA) and Part 157 of the Commission's Regulations for a certificate of public convenience and necessity authorizing the construction, operation and modification of certain compression and appurtenant facilities in Wisconsin, all as more fully set forth in the application which is on file with the Commission and open to public inspection. Copies of this filing are on file with the Commission and are available for public inspection. This filing may also be viewed on the web at http://www.ferc.gov using the “RIMS” link, select “Docket#” and follow the instructions (call 202-208-2222 for assistance.)

Specifically, Northern proposes to construct and operate a new 1,160 horsepower (hp) compressor unit with appurtenances at the existing Belleville compressor station in Green County, Wisconsin, and to modify the 3 existing units by rewheeling them. It is stated that the compressor station currently consists of 3 units totaling 3,480 hp and that following the installation of the proposed compressor and modifications, the compressor station will consist of 4 units totaling 4,640 hp.

Northern states that the proposal is required because of the proposed construction of a new pipeline by Guardian Pipeline, L.L.C. (Guardian), which would require increased pressure at an interconnection between Northern and Guardian and would increase operating pressures on Wisconsin Gas Company's downstream system. Northern states that the proposal will improve the operational efficiency, reliability and flexibility of the far east portion of Northern's East Leg, which extends from Boone County, Iowa, to Waukesha County, Wisconsin. It is estimated that the cost of the facilities and modifications will be $2.2 million. Northern requests rolled-in rate treatment for the cost of the proposal because it provides system benefits, consistent with the Commission's Certificate Policy Statement.

Any questions regarding this application should be directed to Keith L. Petersen, Manager, Certificates and Reporting for Northern, at (402) 398-7421, Northern Natural Gas Company, 1111 S. 103rd Street, Omaha, Nebraska 68124.

There are two ways to become involved in the Commission's review of this project. First, any person wishing to obtain legal status by becoming a party to the proceedings for this project should, on or before August 10, 2001, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

Comments, protests and interventions may be filed electronically via the Internet in lieu of paper. See 18 CFR 385.2001(a)(1)(iii) and the Commission's website under the “e-Filing” link.

If the Commission decides to set the application for a formal hearing before an Administrative Law Judge, the Commission will issue another notice describing that process. At the end of the Commission's review process, a final Commission order approving or denying a certificate will be issued.

David P. Boergers,
Secretary.

[FR Doc. 01-18615 Filed 7-25-01; 8:45 am]

BILLING CODE 6717-01-P